DEPARTMENT OF TRANSPORTATION

Federal Highway Administration

Supplemental Environmental Impact Statement: Travis County, TX

AGENCY: Federal Highway Administration (FHWA), DOT.

ACTION: Notice of Intent.

SUMMARY: Pursuant to 40 CFR 1508.22 and 43 TAC § 2.5(e) (2), the FHWA and Texas Department of Transportation (TxDOT) are issuing this notice to advise the public that a limited scope supplemental environmental impact statement (SEIS) will be prepared for a transportation project in Travis County, Texas.

FOR FURTHER INFORMATION CONTACT: Mr. Salvador Deocampo, District Engineer, District A, Federal Highway Administration (FHWA), Texas Division, 300 East 8th Street, Rm 826, Austin, Texas 78701, Telephone 512-536-5950.

SUPPLEMENTARY INFORMATION: The FHWA in cooperation with TxDOT will prepare a limited scope SETS for the proposed improvement of State Highway (SH) 71 from Riverside Drive to SH 130, in Travis County, Texas. The project length is approximately 6.5 miles. The improvements proposed between Riverside Drive and Farm-to-Market Road (FM) 973 were originally considered in a Final Environmental Impact Statement (FEIS) covering improvements to SH 71/US 290 from Ranch-to-Market Road (RM) 1826 to FM 973. A Record of Decision (ROD) was issued by FHWA on August 22, 1988. The mid-section of the original project limits, between Joe Tanner Lane and Riverside Drive, has been constructed. Since the issuance of the SH 71/US 290 ROD, changes in adjacent land use, the construction of SH 130, and proposed design modifications have resulted in the need to supplement the original FEIS to evaluate the change in potential impacts from the proposed project. As a result, the unconstructed eastern portion of the original FEIS, between Riverside Drive and FM 973, will be the subject of a limited scope SEIS. Due to the proximity of intersections on SH 71 at FM 973 and at the recently constructed SH 130, the SH 71/US 290 SEIS would extend beyond the limits of the original FEIS to include the new interchange at SH 130 to provide for a more logical terminus and transition back to existing SH 71 east of SH 130. Information from the FEIS and subsequent ROD (June 5, 2001) for SH 130 from IH 35 north of Georgetown to IH 10 near Seguin will be incorporated into the subject SEIS.

The project is listed in the Capital Area Metro Planning Organization (CAMPO) Mobility 2030 Plan, as amended, (the long-range transportation plan) as a six-lane tolled freeway between Riverside Drive and Spirit of Texas Drive. From Presidential Avenue to SH 130, the project is listed as a six-lane freeway but is being considered for tolling. The need for the proposed project, as stated in the 1988 FEIS, stems from congestion and low travel speeds caused by rapid population growth in the Austin metropolitan area. Crash data have also indicated safety concerns as a primary need for this project. Additionally, the economic growth of the SH 71/US 290 corridor is dependent on the ability of the roadway network to accommodate both local trips created by recent nearby development as well as regional through traffic. In order to address these needs, the purpose of the proposed project is to increase traffic flow capacities and improve mobility in the roadway corridor while enhancing safety and system interconnectivity, in compliance with the adopted GAMPO Mobility 2030 Plan.

The SEIS will evaluate potential impacts from construction and operation of the proposed roadway including, but not limited to, the following: Transportation impacts (construction detours, construction traffic, and mobility improvement), air quality and noise impacts from construction equipment and operation of the facilities, water quality impacts from construction area and roadway storm water runoff, impacts to waters of the United States including wetlands from right-of-way encroachment Impacts to histonc and archeological resources impacts to floodplains, and impacts and/or displacements to residents and businesses, land use, vegetation, wildlife, aesthetic and visual resources, socioeconomic resources, and cumulative and indirect impacts.

Public involvement is a critical component of the project development process and will occur throughout the planning and study phases. Opportunities for public involvement exist during public meetings and public review of the draft SEIS. A public meeting will be held on Tuesday June 24, 2008 at 6 p.m. at the Del Valle High School located at 5201 Ross Road, Del Valle, Texas 78671.

Letters describing the proposed action and soliciting comments will be sent to the appropriate Federal, State, and local agencies, and private organizations and citizens who have previously expressed or are known to have interest in this proposal. To ensure that the full range of issues related to this proposed action is addressed and all significant issues are identified, comments and suggestions are invited from all interested parties. Comments or questions concerning this proposed action and the SEIS should be directed to FHWA at the address above.

(Catalog of Federal Domestic Assistance Program Number 20.205, Highway, Planning, and Construction. The regulations implementing Executive Order 12372 regarding intergovernmental consultation on Federal programs and activities apply to this program.)

Issued on: May 22, 2008.
Salvador Deocampo,
District Engineer.

[FR Doc. E8-12146 Filed 5-30-08; 8:45 am]

BILLING CODE 4910-22-M